DEPARTMENT OF AGRICULTURE

Submission for OMB Review; Comment Request

February 3, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: The Loving Support Award of Excellence.

OMB Control Number: 0584—NEW.

Summary of Collection: The Healthy, Hunger-Free Kid Act of 2010 (HHFKA) (Pub. L. 111-296, Sec 231) which requires the U.S. Department of Agriculture (USDA) to implement a program to recognize exemplary breastfeeding support practices at Women, Infants, and Children (WIC) local agencies and clinics. The WIC program provides breastfeeding promotion and support for pregnant and postpartum mothers as a part of its mission to improve the health of the approximately 9 million Americans it serves each month. The WIC program has achieved many accomplishments in promoting, encouraging and supporting breastfeeding as the preferred feeding method for all infants. The HHFKA requires the USDA to annually compile and publish breastfeeding performance measurements. The collection and publication of breastfeeding performance measurements is one of several provisions in the HHFKA that strengthens the WIC Program's emphasis on breastfeeding promotion and support and underscores the importance of exclusive, continued breastfeeding to the health of WIC participants. This reporting requirement provides an exciting opportunity to help further the efforts of WIC State and local agencies by highlighting agencies that demonstrate success in breastfeeding through high breastfeeding rates and by motivating other agencies to strengthen their breastfeeding promotion and support services with the goal of increasing their breastfeeding rates. The breastfeeding performance measurements will be used in the process to determine awardees for the top two level awards.

Need and Use of the Information: The award application period is open one time, annually, and has been designed to allow local WIC agencies at different stages of progress in breastfeeding promotion and support program development to apply for an award. Agencies may apply for a recognition award for their level of efforts and success one year, continue to develop their local programs, and then apply for a higher level award in a following year when further success is achieved. The information collection will strengthen the breastfeeding promotion and support efforts of local WIC agencies by recognizing exemplary activities as well as provide models to assist and motivate other local WIC agencies and clinics to strength their breastfeeding promotion and support activities.

Description of Respondents: State, Local or Tribal Government; Federal Government.

Number of Respondents: 697.

Frequency of Responses: Reporting: Annually.

Total Burden Hours: 1,942.

Food and Nutrition Service

Title: Issuance Reconciliation Report, FNS-46.

OMB Control Number: 0584-0080.

Summary of Collection: Section 7(d) of the Food and Nutrition Act of 2008, as amended, (the Act) (7 U.S.C. 2016(d)) and Regulations at 7 CFR 274.4(a) and 274.4(b)(2), requires State agencies to report on their Supplemental Nutrition Assistance Program (SNAP) benefit issuance operations not less than monthly. Section 11(a) of the Act (7 U.S.C. 2020(a)) requires State agencies to assume responsibility for the issuance, control, and accountability of SNAP benefits. The Food and Nutrition Service (FNS), administers the SNAP in cooperation with State and local governments. FNS regulations require State agencies to account for all issuance through a reconciliation process and to submit a report on this process using Form FNS-46, Issuance Reconciliation Report.

Need and Use of the Information: The FNS-46 report is a program management report which is used on an ongoing basis to document the reconciliation process by which State agencies compare all issuances, including Disaster SNAP (D-SNAP) benefits made during the month to the record for issuance. The record-for-issuance is then compared with the master issuance file. Findings from this comparison are reported on the Form FNS-46. The data from the FNS-46 report is also used for reports to Congress, to establish State issuance liabilities, and to determine national performance measures for Quality Control.

Description of Respondents: State, Local, or Tribal Government.

Number of Respondents: 54.

Frequency of Responses: Reporting: Monthly.

Total Burden Hours: 2,592.

Ruth Brown,
Departmental Information Collection Clearance Officer.

[FR Doc. 2014-02642 Filed 2-6-14; 8:45 am]

BILLING CODE 3410-30-P